DEPARTMENT OF THE INTERIOR

Bureau of Land Management

[LLCA930000, L14300000.ER0000; CACA 7059, CACA 7060, CACA 7101, CACA 7102, and CACA 7239]

Public Land Order No. 7743; Partial Revocation of Five Secretarial Orders for Reclamation Project Purposes on the Colorado River, California.

AGENCY: Bureau of Land Management, Interior.

ACTION: Public Land Order.

SUMMARY: This order partially revokes five Secretarial Orders insofar as they affect 2,865.86 acres of public lands previously withdrawn for reclamation project purposes on the Colorado River. The lands are no longer needed for reclamation purposes and the Bureau of Reclamation has relinquished the lands accordingly. This order opens the lands to the Act of Congress dated January 12, 1891, as amended by the Act of Congress dated March 1, 1907, to facilitate the issuance of a trust patent to the Chemehuevi Indian Tribe. The lands will remain withdrawn from all forms of settlement and entry under the terms of an Order of the Secretary of the Interior dated February 2, 1907.

DATES: Effective Date: June 24, 2010.

FOR FURTHER INFORMATION CONTACT: Duane Marti, Realty Specialist, at 916-978-4675 or via e-mail at Duane_Marti@ca.blm.gov.

SUPPLEMENTARY INFORMATION: The Bureau of Reclamation has determined that the lands are no longer needed for reclamation purposes as previously withdrawn and has requested the partial revocation. These lands are included in an overlapping reservation on behalf of the Chemehuevi Indian Tribe, therefore the lands will remain withdrawn from all forms of settlement and entry. The Bureau of Indian Affairs has requested that the Bureau of Land Management issue a trust patent for the Chemehuevi Indian Tribe's reservation along the Colorado River in San Bernardino County. The lands are being opened to the Act of Congress dated January 12, 1891 (26 Stat. 712), as amended by the Act of Congress dated March 1, 1907 (34 Stat. 1015, 1022), to facilitate the issuance of the trust patent.

Order

By virtue of the authority vested in the Secretary of the Interior by Section 204 of the Federal Land Policy and Management Act of 1976, 43 U.S.C. 1714, it is ordered as follows:

1. The Secretarial Orders dated July 2, 1902 (as modified by the Secretarial Order dated August 26, 1902), April 14, 1903, September 8, 1903, June 4, 1930, and October 16, 1931, respectively, which withdrew public lands for Colorado River Surveys and reclamation project purposes (including Colorado River Surveys and a “Colorado River Project”), are hereby revoked insofar as they affect the following described lands:

San Bernardino Meridian

T. 6 N., R. 24 E.,

Sec. 35.

T. 4 N., R. 25 E.,

Sec. 25, lots 1 and 2, W½ NE¼, NW¼, and S½.

T. 4 N., R. 26 E.,

Sec. 19, lots 1, 2, and 3;

Sec. 29, lots 1 and 2;

Sec. 30, lots 1 to 20, inclusive;

Sec. 31, lots 1 to 10, inclusive, S½ NE¼, and SE¼;

Sec. 32, lots 1 to 9, inclusive, SW¼ NE¼, and S½;

Sec. 33, lots 1 to 8, inclusive, and SW¼ SW¼.

The areas described aggregate 2,865.86 acres in San Bernardino County.

2. At 10 a.m. on June 24, 2010, the lands described in Paragraph 1 will be opened to the provisions of the Act of Congress dated January 12, 1891 (26 Stat. 712), as amended by the Act of Congress dated March 1, 1907 (34 Stat. 1015, 1022), generally, subject to valid existing rights, the provisions of existing withdrawals (including, but not limited to, the withdrawal made by Secretarial Order dated February 2, 1907), other segregations of record, and the requirements of applicable law.

Dated: June 16, 2010.
Wilma A. Lewis,
Assistant Secretary—Land and Minerals Management.

[FR Doc. 2010-15382 Filed 6-22-10; 11:15 am]

BILLING CODE 4310-MN-P